FEDERAL ACCOUNTING STANDARDS ADVISORY BOARD

Notice of Meetings

AGENCY: Federal Accounting Standards Advisory Board.

ACTION: Notice of meetings through June 2001.

Board Action: Pursuant to the Federal Advisory Committee Act (Pub. L. No. 92-463), as amended, and the FASAB Rules of Procedure, as amended in October, 1999, notice is hereby given that the Federal Accounting Standards Advisory Board (FASAB) will meet on Wednesday, February 21 and Thursday, February 22. The February 21st meeting will begin at 1 p.m. and conclude at 4 p.m. in room 6N30, 441 G Street, NW, Washington, DC. The February 22nd meeting will begin at 9 a.m. and conclude at 4:30 p.m. in room 7C13, 441 G Street, NW, Washington, DC.

The purpose of the meeting is to discuss issues related to:

• National Defense PP&E;

• Stewardship Reporting for Heritage Assets and Stewardship Land;

• Responses to the exposure draft amending SFFAS 7;

• Corrections of Errors through Period adjustment; and

• FASAB's Technical Agenda.

An Appointments Panel meeting will be held in conjunction with the Board meeting. A more detailed agenda can be obtained from the FASAB website (www.financenet.gov/fasab.htm after February 14, 2001.

Following the February meeting, the schedule for the next two meetings of the Board is as follows:

• Thursday and Friday, April 26 and 27, 2001; and

• Monday and Tuesday, June 18 and 19, 2001.

The purpose of these meetings will be to discuss issues related to:

• Stewardship Reporting;

• National Defense Property, Plant & Equipment;

• Deletion of Paragraph 65.2—Material Revenue—Related Transaction Disclosures;

• Natural Resources;

• Correction of Errors Through Prior Period Adjustments;

• Codification of FASAB Standards;

• Accounting and Auditing Policy Committee issues; and

• Any other topics as needed.

A Steering Committee meeting of the Board's Principal Board members may be held in conjunction with each of the Board meetings. A more detailed agenda for each Board meeting can be seen on the FASAB website www.financenet.gov/fasab.htm one week prior to each meeting. The location of each meeting will be given in the website agenda.

Any interested person may attend the meetings as an observer. Board discussion and reviews are open to the public. GAO Building security requires advance notice of your attendance. For the February meeting, please notify FASAB by February 20 of your planned attendance by calling 202-512-7350, and for the subsequent meetings one day prior to the respective meeting.

FOR FURTHER INFORMATION CONTACT: Wendy Comes, Executive Director, 441 G St., NW., Mailstop 6K17V, Washington, DC 20548, or call (202) 512-7350.

Authority: Federal Advisory Committee Act. Pub. L. No. 92-463.

Dated: February 1, 2001.
Wendy M. Comes,
Executive Director.

[FR Doc. 01-3133 Filed 2-6-01; 8:45 am]

BILLING CODE 1610-01-M